FEDERAL COMMUNICATIONS COMMISSION

47 CFR Part 54

[WC Docket Nos. 10-90, 23-328, 16-271, 14-58, 09-197; WT Docket No. 10-208; DA 25-242; FR ID 286514]

Wireless Telecommunications Bureau Seeks Comment on Petition Seeking Clarification and Reconsideration of the Alaska Connect Fund Order

AGENCY: Federal Communications Commission.

ACTION: Proposed rule.

SUMMARY: In this document, the Wireless Telecommunications Bureau seeks comment on a petition for clarification and reconsideration of the Alaska Connect Fund Order filed by GCI Communication Corp. The petitioner requests that the Federal Communications Commission (Commission) clarify or reconsider aspects of its decision in the ACF Order.

DATES: Oppositions and Comments are due on or before April 17, 2025, and Replies to Opposition and Reply Comments are due April 28, 2025.

ADDRESSES: Comments may be filed using the Commission's Electronic Comment Filing System (ECFS). You may submit comments, identified by WC Docket Nos. 10-90, 23-328, 16-271, 14-58, 09-197 or WT Docket No. 10-208 by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

People with Disabilities: To request materials in accessible formats for people with disabilities (braille, large print, electronic files, audio format), send an email to fcc504@fcc.gov or call the Consumer & Governmental Affairs Bureau at 202-418-0530.

FOR FURTHER INFORMATION CONTACT: Please contact Matt Warner, Attorney Advisor, Competition and Infrastructure Policy Division, WTB, 202-418-2419, acf@fcc.gov.

SUPPLEMENTARY INFORMATION: This is a summary of the Commission's Public Notice in WC Docket Nos. 10-90, 23-328, 16-271, 14-58, 09-197 and WT Docket No. 10-208; DA 25-242, adopted and released on March 19, 2025. The full text of this document is available at the following internet address: https://www.fcc.gov/document/wtb-seeks-comment-petition-reconsideration-acf-order.

Ex Parte Rules. The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda

summarizing oral ex parte presentations, and all attachments thereto, must be filed through the electronic comment filing system available for that proceeding, and must be filed in their native format (e.g., .doc, .xml, .ppt, searchable .pdf). Participants in this proceeding should familiarize themselves with the Commission's ex parte rules.

Amy Brett,
Chief of Staff, Wireless Telecommunications Bureau.

[FR Doc. 2025-05614 Filed 4-1-25; 8:45 am]

BILLING CODE 6712-01-P